DEPARTMENT OF HEALTH AND HUMAN SERVICES

Substance Abuse and Mental Health Services Administration

Notice of Meeting

Pursuant to Public Law 92-463, notice is hereby given that the Substance Abuse and Mental Health Services Administration's (SAMHSA) Center for Substance Abuse Prevention's (CSAP) Drug Testing Advisory Board (DTAB) will convene via web conference on June 13, 2023, from 9:30 a.m. EST to 5:00 p.m. EST.

The board will meet in open-session June 13, 2023, from 9:30am EST to 4:00pm EST to discuss the Mandatory Guidelines for Federal Workplace Drug Testing Programs, the history of the Drug Free Workplace Program and the Comprehensive Review, updates from the Department of Transportation, the Nuclear Regulatory Commission, and the Department of Defense, as well as a discussion regarding the Food and Drug Administration approval process for drug testing assays and devices. Presentations include one by Faye Caldwell on Changing Trends in Drug Testing and another by Dr. Edward Cone on Preliminary Findings Comparing the Pharmacokinetics and Pharmacodynamics of Delta-8-THC to Delta-9-THC in Human Volunteers.

The board will meet in closed session on June 13, 2023, from 4:15 p.m. EST to 5:00 p.m. EST to hear an update on the Hair Proficiency Testing Program. June 13, 2023, from 4:15 p.m. EST to 5:00 p.m. EST meeting is closed to the public, as determined by the Assistant Secretary for Mental Health and Substance Use, SAMHSA, in accordance with 5 U.S.C. 552b(c)(9)(B) and 5 U.S.C. App. 2, section 10(d).

Meeting registration information can be completed at https://snacregister.samhsa.gov/. Web conference and call information will be sent after completing registration. Meeting information and a roster of DTAB members may be obtained by accessing the SAMHSA Advisory Committees website, https://www.samhsa.gov/about-us/advisory-councils/meetings, or by contacting the Designated Federal Officer, Lisa Davis.

Committee Name: Substance Abuse and Mental Health Services Administration, Center for Substance Abuse Prevention. Drug Testing Advisory Board.

Dates/Time/Type: June 13, 2023, from 9:30 a.m. EST to 4:00 p.m. EST: OPEN; June 13, 2023, from 4:15 p.m. EST to 5:00 p.m. EST: CLOSED.

Place: Substance Abuse and Mental Health Services Administration, 5600 Fishers Lane, Rockville, MD 20857.

To Submit Comments: Please send comments in writing at least 7 days prior to the meeting to the to the following email: DFWP@samhsa.hhs.gov.

Contact: Lisa S. Davis, M.S, Social Science Analyst, Center for Substance Abuse Prevention, 5600 Fishers Lane, Rockville, Maryland 20857, Telephone: (240) 276-1440, Email: Lisa.Davis@samhsa.hhs.gov.

Anastasia Marie Donovan,
Public Health Advisor, Division of Workplace Programs.

[FR Doc. 2023-10783 Filed 5-18-23; 8:45 am]

BILLING CODE 4162-20-P